NATIONAL SCIENCE FOUNDATION

Special Emphasis Panel for Geosciences: Notice of Meeting

In accordance with the Federal Advisory Committee Act (Pub. L. 92-463, as amended), the National Science Foundation announces the following meeting.

Name: Special Emphasis Panel for Geosciences (1756).

Date/Time: May 8-12, 2000, 8-5 p.m.

Place: National Science Foundation, 4201 Wilson Blvd., Rooms 310, 320, 330, and 360, Arlington, VA.

Type of Meeting: Closed.

Contact Person: H. Lawrence Clark, Acting Section Head, Ocean Sciences Research Section, National Science Foundation, 4201 Wilson Blvd., Arlington, VA 22230, Telephone (703) 306-1582.

Purpose of Meeting: To provide advice and recommendations concerning proposals submitted to NSF for financial support.

Agenda: To review and evaluate the Ocean Sciences Research Programs (OSRS) as part of the selection process for awards.

Reason for Closing: The proposal being reviewed includes information of a proprietary or confidential nature, including technical information; financial data, such as salaries; and personal information concerning individuals associated with the proposals. These matters are exempt under 5 U.S.C. 552b(c), (4) and (6) of the Government in The Sunshine Act.

Dated: April 3, 2000.
Karen J. York,
Committee Management Officer.

[FR Doc. 00-8493 Filed 4-5-00; 8:45 am]

BILLING CODE 7555-01-M